DEPARTMENT OF AGRICULTURE

Animal and Plant Health Inspection Service

[Docket No. APHIS-2018-0011]

Notice of Availability of Proposed Changes to the Chronic Wasting Disease Herd Certification Program Standards

AGENCY: Animal and Plant Health Inspection Service, USDA.

ACTION: Notice of availability.

SUMMARY: We are advising the public that we are making available for review and comment a revised version of the Chronic Wasting Disease (CWD) Herd Certification Program Standards. The CWD Program Standards provide guidance on how to meet CWD Herd Certification Program and interstate movement requirements. We are taking this action to address concerns of State and industry participants about the existing standards.

DATES: We will consider all comments that we receive on or before April 30, 2018.

ADDRESSES: You may submit comments by either of the following methods:

• Federal eRulemaking Portal: Go to http://www.regulations.gov/#!docketDetail;D=APHIS-2018-0011.

• Postal Mail/Commercial Delivery: Send your comment to Docket No. APHIS-2018-0011, Regulatory Analysis and Development, PPD, APHIS, Station 3A-03.8, 4700 River Road Unit 118, Riverdale, MD 20737-1238.

Supporting documents and any comments we receive on this docket may be viewed at http://www.regulations.gov/#!docketDetail;D=APHIS-2018-0011 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Tracy Nichols, Staff Officer, Cervid Health Team, Surveillance, Preparedness, and Response Services, VS, APHIS, USDA, 2150 Centre Avenue, Bldg. B, Fort Collins, CO 80526; (970) 494-7380.

SUPPLEMENTARY INFORMATION:

Chronic wasting disease (CWD) is a transmissible spongiform encephalopathy of cervids (members of Cervidae, the deer family). Species currently known to be susceptible to CWD include elk, mule deer, moose, white-tailed deer, sika deer, muntjac, reindeer, and black-tailed deer.

In 2014, the Animal and Plant Health Inspection Service (APHIS) implemented the National CWD Herd Certification Program (HCP), a voluntary Federal-State-industry cooperative program administered by APHIS and implemented by participating States. Currently, 28 States participate in the program. States and herd owners choosing to participate must comply with the provisions of 9 CFR parts 55 and 81 (referred to below as the regulations), which include requirements for animal identification, interstate movement, fencing, recordkeeping, herd inspections and inventories, animal mortality testing, and response to any findings of CWD-exposed, -suspect, or -positive herds. APHIS monitors the approved State HCPs to ensure consistency with Federal standards by means of annual State reporting. With each year of successful surveillance, participating herds will advance in status. After 5 years with no evidence of CWD, APHIS will certify the herd as being low risk for CWD. Only captive cervids from enrolled herds certified as low risk for CWD may move interstate.

The CWD Program Standards provide detailed guidance on how to meet the regulatory requirements referred to above. An annual review of the Program Standards is conducted by APHIS in collaboration with State agencies and industry representatives.

In response to concerns expressed by industry and State partners about the existing CWD Program Standards, published in 2014, we convened a working group in 2016 to review the document. Based on the group's discussions, as well as recommendations from an internal review, we determined that the Program Standards needed to undergo a number of revisions.

We are advising the public that we have prepared a revised version of the CWD Program Standards. The proposed revisions include the following:

• Revising the goal statement to focus on reducing the risk of interstate transmission of CWD.

• Clarifying that the Program Standards include detailed descriptions of suggested methods approved by the APHIS Administrator to meet the regulatory requirements.

• Making definitions of terms in the Program Standards consistent with the official definitions in the regulations.

• Describing APHIS' intent to amend the regulations to define susceptible species based on scientific evidence of natural infection or experimental infections through natural routes and adding the genera Rangifer and Muntiacus to the list of susceptible species.

• Providing support for implementing antemortem immunohistochemistry testing of rectal anal mucosa associated lymphoid tissue (RAMALT) and medial retropharyngeal lymph node (MRPLN) biopsies conducted as a whole-herd test concurrently with genotyping at Prion Protein Gene (PRNP) codon 96 in white-tailed deer in traceback, traceforward, and CWD-exposed herds and for disease management in CWD-positive herds.

• Providing support for initiating pilot projects using RAMALT and MRPLN biopsies conducted concurrently with genotyping at PRNP codon 132 in elk in traceback, traceforward, and CWD-exposed herds and for disease management in CWD-positive herds to inform decisions about testing protocols.

• Clarifying the definitions and processes for performing epidemiological investigations.

• Replacing Appendix VI with a worksheet that States must submit for all positive herds enrolled in the HCP as part of their annual HCP report. Additionally, for any herd for which Federal indemnity is to be paid, a preliminary and final worksheet must have been completed as part of the herd plan by a State representative.

• Describing the factors that APHIS will consider when making decisions about providing indemnity for CWD-positive, -exposed, and -suspect animals and describing the relative priority of each factor.

• Clarifying the consequences of poor quality and missing post-mortem surveillance samples on herd status, as well as describing options States may consider as substitutions for these samples.

• Making the Program Standards language consistent with that of the regulations by requiring CWD testing of all mortalities from certified herds, including at slaughter and on hunt facilities when animals remain under the same ownership.

• Streamlining the description of fencing characteristics considered necessary to prevent ingress and egress of cervids for HCP-enrolled herds.

• Eliminating Appendix II: Fencing Requirements and References, and making these scientific references available upon request.

• Moving Part B, Section 5: Sanitary Precautions and Biosecurity Practices for Herd Plans and Depopulations to an appendix, and simplifying recommendations for premises decontamination.

• Updating and streamlining Appendix IV: Guidelines for Environmental Contamination.

• Consolidating the discussion of carcass disposal options in the main body of the Program Standards and deleting Appendix V: Carcass Disposal.

The revised Program Standards may be viewed on the Regulations.gov website or in our reading room. (Instructions for accessing Regulations.gov and information on the location and hours of the reading room are provided under the heading ADDRESSES at the beginning of this notice.) The documents are also available by contacting the person listed under FOR FURTHER INFORMATION CONTACT.

After reviewing any comments we receive on the proposed updates, we will publish a second notice in the Federal Register announcing our decision regarding the proposed changes.

Authority: 7 U.S.C. 8301-8317; 7 CFR 2.22, 2.80, and 371.4.

Done in Washington, DC, this 23rd day of March 2018.
Kevin Shea,
Administrator, Animal and Plant Health Inspection Service.

[FR Doc. 2018-06341 Filed 3-28-18; 8:45 am]

BILLING CODE 3410-34-P